ENVIRONMENTAL PROTECTION AGENCY

[FRL-10382-01-OW]

Notice of Public Environmental Financial Advisory Board Virtual Meetings

AGENCY: Environmental Protection Agency (EPA).

ACTION: Notice of public meetings.

SUMMARY: The United States Environmental Protection Agency (EPA) announces three public meetings of the Environmental Financial Advisory Board (EFAB). The meetings will be conducted in a virtual format via webcast. The purpose of the meetings will be for the EFAB to provide workgroup updates and work products for the Greenhouse Gas Reduction Fund charge. Written public comments may be provided in advance. No oral public comments will be accepted during the meetings. Please see the SUPPLEMENTARY INFORMATION section for further details.

DATES: The meetings will be held on:

1. November 17, 2022, from 1 p.m. to 3 p.m. Eastern Time;

2. December 1, 2022, from 1 p.m. to 3 p.m. Eastern Time; and

3. December 15, 2022, from 1 p.m. to 5 p.m. Eastern Time.

ADDRESSES: The meetings will be conducted in a virtual format via webcast only. Information to access the webcast will be provided upon registration in advance of each meeting.

FOR FURTHER INFORMATION CONTACT: Any member of the public who wants information about the meetings may contact Tara Johnson via telephone/voicemail at (202) 564-6186 or email to efab@epa.gov. General information concerning the EFAB is available at https://www.epa.gov/waterfinancecenter/efab.

SUPPLEMENTARY INFORMATION:

Background: The EFAB is an EPA advisory committee chartered under the Federal Advisory Committee Act (FACA), 5 U.S.C. App. 2, to provide advice and recommendations to EPA on innovative approaches to funding environmental programs, projects, and activities. Administrative support for the EFAB is provided by the Water Infrastructure and Resiliency Finance Center within EPA's Office of Water. Pursuant to FACA and EPA policy, notice is hereby given that the EFAB will hold three public meetings via webcast for the following purpose: Provide workgroup updates and work products for the Board's Greenhouse Gas Reduction Fund charge.

Registration for the Meeting: To register for the meeting, please visit https://www.epa.gov/waterfinancecenter/efab#meeting. Interested persons who wish to attend the meeting via webcast must register by November 14, 2022 (for the November 17, 2022, meeting), November 28, 2022 (for the December 1, 2022, meeting), and December 12, 2022 (for the December 15, 2022, meeting). Pre-registration is strongly encouraged.

Availability of Meeting Materials: Meeting materials, including the meeting agenda and briefing materials, will be available on EPA's website at https://www.epa.gov/waterfinancecenter/efab.

Procedures for Providing Public Input: Public comment for consideration by EPA's federal advisory committees has a different purpose from public comment provided to EPA program offices. Therefore, the process for submitting comments to a federal advisory committee is different from the process used to submit comments to an EPA program office. Federal advisory committees provide independent advice to EPA. Members of the public may submit comments on matters being considered by the EFAB for consideration as the Board develops its advice and recommendations to EPA.

Written Statements: Written statements should be received by November 10, 2022 (for the November 17, 2022, meeting), November 25, 2022 (for the December 1, 2022, meeting), and December 8, 2022 (for the December 15, 2022, meeting), so that the information can be made available to the EFAB for its consideration prior to the meeting. Written statements should be sent via email to efab@epa.gov. Members of the public should be aware that their personal contact information, if included in any written comments, may be posted to the EFAB website. Copyrighted material will not be posted without explicit permission of the copyright holder.

Accessibility: For information on access or services for individuals with disabilities or to request accommodations for a disability, please register for the meeting and list any special requirements or accommodations needed on the registration form at least 10 business days prior to the meeting to allow as much time as possible to process your request.

Andrew D. Sawyers,
Director, Office of Wastewater Management, Office of Water.

[FR Doc. 2022-23796 Filed 11-1-22; 8:45 am]

BILLING CODE 6560-50-P